RAILROAD RETIREMENT BOARD

Sunshine Act; Notice of Public Hearing

Notice is hereby given that the Railroad Retirement Board, acting through its appointed Hearing Examiner, will hold a hearing on May 16, 2006, at 9 a.m., in Room 1524 in the Federal Building at 51 SW 1st Avenue, Miami, Florida 33130. The hearing will be held at the order of the Board for the purpose of taking evidence relating to the status of Herzog Transit Services, Inc., as an employer covered by the Railroad Retirement and Railroad Unemployment Insurance Acts.

The entire hearing will be open to the public. The person to contact for more information is Karl Blank, Hearing Examiner, phone number (312) 751-4941, TDD (312) 751-4701.

Dated: April 24, 2006.
Beatrice Ezerski,
Secretary to the Board.

[FR Doc. 06-4013 Filed 4-25-06; 11:27 am]

BILLING CODE 7905-01-M